DEPARTMENT OF AGRICULTURE

Rural Housing Service

Information Collection Activity; Comment Request

AGENCY: Rural Housing Service, USDA.

ACTION: Notice and request for comments.

SUMMARY: In accordance with the Paperwork Reduction Act of 1995, the U.S. Department of Agriculture (USDA) Rural Housing Service (RHS) invites comments on this information collection for Analyzing Credit Needs and Graduation of Borrowers, for which the Agency intends to request approval from the Office of Management and Budget (OMB) will be requested.

DATES: Comments on this notice must be received by February 26, 2019.

FOR FURTHER INFORMATION CONTACT: Thomas P. Dickson, Rural Development Innovation Center—Regulatory Team 2, USDA, 1400 Independence Avenue SW, STOP 1522, Room 5164, South Building, Washington, DC 20250-1522. Telephone: (202) 690-4492. Email Thomas.dickson@usda.gov.

SUPPLEMENTARY INFORMATION: The Office of Management and Budget's (OMB) regulation (5 CFR 1320) implementing provisions of the Paperwork Reduction Act of 1995 (Pub. L. 104-13) requires that interested members of the public and affected agencies have an opportunity to comment on information collection and recordkeeping activities (see 5 CFR 1320.8(d)). This notice identifies an information collection that RHS is submitting to OMB for revision.

Comments are invited on: (a) Whether the proposed collection of information is necessary for the proper performance of the functions of the Agency, including whether the information will have practical utility; (b) the accuracy of the Agency's estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology.

Comments may be sent by any of the following methods:

• Mail: Thomas P. Dickson, Rural Development Innovation Center, 1400 Independence Avenue SW, STOP 1522, Room 5164, South Building, Washington, DC 20250-1522. Telephone: (202) 690-4492. Email: Thomas.Dickson@wdc.usda.gov.

• Federal eRulemaking Portal: Go to https://www.regulations.gov. Follow the instructions for submitting comments.

Title: 7 CFR part 1951, subpart F, Analyzing Credit Needs and Graduation of Borrowers.

OMB Control Number: 0575-0093.

Type of Request: Revision of a currently approved information collection.

Abstract: Section 333 of the Consolidated Farm and Rural Development Act (CONACT) (7 U.S.C. 1983) requires the Agencies to “graduate” their direct loan borrowers to other credit when they are able to do so. Graduation is required because the Government loans are not to be extended beyond a borrower's need for subsidized rates or Government credit. Borrowers must refinance their direct Government loan when other credit becomes available at reasonable rates and terms. If other credit is not available, the Agencies will continue to review the account for possible graduation at periodic intervals. The information collected to carry out these statutory mandates is financial data such as amount of income, operating expenses, asset values and liabilities. This information collection is then submitted by the Agencies to private creditors.

Estimate of Burden: Public reporting burden for this collection of information is estimated to average 2 hours per response.

Respondents: Public bodies, Not for Profits, or Indian Tribes.

Estimated Number of Respondents: 575.

Estimated Number of Responses per Respondent: 1.

Estimated Total Annual Burden on Respondents: 585.

Estimated Total Annual Burden on Respondents: 1,160.

Copies of this information collection can be obtained from Robin M. Jones, Innovation Center, at (202) 772-1172, Email: robin.m.jones@wdc.usda.gov.

All responses to this notice will be summarized and included in the request for OMB approval. All comments will also become a matter of public record.

Dated: December 20, 2018.
Curtis M. Anderson,
Acting Administrator, Rural Housing Service.

[FR Doc. 2018-28226 Filed 12-27-18; 8:45 am]

BILLING CODE 3410-XY-P